DEPARTMENT OF TRANSPORTATION

Surface Transportation Board

[STB Finance Docket No. 34420 (Sub-No. 1)]

R.J. Corman Railroad Company/Central Kentucky Lines, LLC—Trackage Rights Exemption—CSX Transportation, Inc.

Pursuant to a written supplemental agreement dated January 15, 2008, CSX Transportation, Inc. (CSXT) has agreed to amend an existing written master trackage rights agreement with R.J. Corman Railroad Company/Central Kentucky Lines, LLC (RJCC) and grant additional overhead trackage rights to RJCC extending between CSXT milepost VB 113.81 at Winchester, KY, and CSXT milepost KC 131.0 at Berea, KY, a distance of approximately 35 miles.¹

¹ The original trackage rights were exempted in CSX Transportation, Inc.—Trackage Rights Exemption—R.J. Corman Railroad Company/Memphis Lines; R.J. Corman Railroad Company/Central Kentucky Lines, LLC—Trackage Rights Exemption—CSX Transportation, Inc., STB Finance Docket No. 34420 (STB served November 12, 2003).

The earliest this transaction can be consummated is May 1, 2008, the effective date of the exemption (30 days after the exemption is filed).

The amendment to the existing trackage rights agreement will permit RJCC to haul carloads of sand from Lexington, KY, to Berea, KY, in single line service.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by April 24, 2008 (at least 7 days before the exemption becomes effective).

Pursuant to the Consolidated Appropriations Act, 2008, Pub. L. 110-161, section 193, 121 Stat. 1844 (2007), nothing in this decision authorizes the following activities at any solid waste rail transfer facility: collecting, storing, or transferring solid waste outside of its original shipping container; or separating or processing solid waste (including baling, crushing, compacting, and shredding). The term “solid waste” is defined in section 1004 of the Solid Waste Disposal Act, 42 U.S.C. 6903.

An original and 10 copies of all pleadings, referring to STB Finance Docket No. 34420 (Sub-No. 1), must be filed with the Surface Transportation Board, 395 E Street, SW., Washington, DC 20423-0001. In addition, a copy of each pleading must be served on Ronald A. Lane, Fletcher & Sippel LLC, 29 North Wacker Drive, Suite 920, Chicago, IL 60606-2832.

Board decisions and notices are available on our Web site at “http://www.stb.dot.gov.”

Decided: April 9, 2008.
By the Board, David M. Konschnik, Director, Office of Proceedings.
Anne K. Quinlan,
Acting Secretary.

[FR Doc. E8-8159 Filed 4-16-08; 8:45 am]

BILLING CODE 4915-01-P